DEPARTMENT OF DEFENSE

Office of the Secretary

[DoD-2006-OS-0023; RIN 0790-AH95]

32 CFR Part 240

Financial Assistance to Local Educational Agencies (LEAs)

AGENCY: Department of Defense.

ACTION: Final rule.

SUMMARY: The Department of Defense is removing 32 CFR Part 240, “Financial Assistance to Local Educational Agencies (LEAs).” The part has served the purpose for which it was intended and is no longer valid.

DATES: Effective Date: February 25, 2008.

FOR FURTHER INFORMATION CONTACT: L.M. Bynum, 703-696-4970.

SUPPLEMENTARY INFORMATION: DoD Instruction 1342.18 was originally codified as 32 CFR part 240. This Instruction was reissued on February 6, 2006 and will no longer be codified in the Code of Federal Regulations. Copies of DoD Instruction 1342.18 may be obtained at http://www.dtic.mil/whs/directives/.

List of Subject in 32 CFR Part 240

Elementary and secondary education; Federally affected areas; Grant programs-education.

Accordingly, by the authority of 10 U.S.C., title 32 of the Code of Federal Regulations is amended by removing part 240:

PART 240—[REMOVED]

Dated: February 19, 2008.
L.M. Bynum,
Alternate OSD Federal Register Liaison Officer, DoD.

[FR Doc. E8-3479 Filed 2-22-08; 8:45 am]

BILLING CODE 5001-06-P